DEPARTMENT OF THE INTERIOR

Fish and Wildlife Service

Restoration of Habitat for Utah Prairie Dogs on Private Land in Utah

AGENCY: Fish and Wildlife Service, Interior.

ACTION: Notice of availability: Safe harbor agreement and receipt of application for an enhancement of survival permit.

SUMMARY: The Panoramaland Resources Conservation and Development Council (applicant) has applied to the Fish and Wildlife Service (Service, us) for an enhancement of survival permit (permit) for the Utah prairie dog within the species' range in Utah under the Endangered Species Act of 1973, as amended (Act). This permit application includes a safe harbor agreement (SHA) between the applicant and us, with the ability for the applicant to issue certificates of inclusion to private landowners. We request information, views, and opinions from the public via this notice. Further, we are soliciting information regarding the adequacy of the SHA as measured against our Safe Harbor Policy and the regulations that implement it.

DATES: We must receive any written comments on the permit application and SHA on or before October 9, 2007.

ADDRESSES:

• Mail: Utah Field Office, 2369 West Orton Circle, West Valley City, Utah 84119.

• Internet: http://mountain-prairie.fws.gov/species/mammals/utprairiedog/.

• E-mail: utahprairiedogSHA@fws.gov.

FOR FURTHER INFORMATION CONTACT: Larry Crist, Utah Field Supervisor (see ADDRESSES), telephone (801) 975-3330.

SUPPLEMENTARY INFORMATION: The Utah prairie dog is the westernmost member of the genus Cynomys. The species' range, which is limited to the southwestern quarter of Utah, is the most restricted of all prairie dog species in the United States. Distribution of the Utah prairie dog has been greatly reduced due to disease (plague), poisoning, drought, and human-related habitat alteration. Protection of this species and enhancement of its habitat on private land will benefit recovery efforts.

The primary objective of this SHA is to promote conservation of a threatened species through voluntary conservation, enhancement, and management of the species on private land throughout the range of the species. Through this SHA, the applicant receives the ability to oversee a safe harbor program working under a permit. We will authorize the applicant to enroll willing individual landowners (cooperators) into the program, which will require that each cooperator enter a cooperative agreement with the Panoramaland Resource Conservation and Development Council, with associated management activities, in exchange for a certificate of inclusion under the permit. This certificate will provide relief from any additional section 9 liabilities under the Act beyond those which exist at the time the cooperative agreement is signed (“regulatory baseline”).

All cooperative agreements shall include the following: (1) Use of pesticides within 100 feet (31 meters) of an active Utah prairie dog colony must be limited to only those approved for this purpose by the Service; (2) All applied practices (see below) must be planned and applied in a manner that will not adversely affect other wildlife, including threatened or endangered species; (3) Monitoring of habitat restoration activities (see below) must occur to assess the general condition of the habitat, use of the habitat by the Utah prairie dog, progress of ongoing management activities, and satisfaction of the cooperator with the project.

In addition to the above management activities, at least two of the following activities must be included in all cooperative agreements: (1) Brush management to restore plant community balance, increase visual surveillance, and increase forage quantity and quality; (2) Prescribed grazing to increase visual surveillance, increase forage quantity and quality and deferment to create vegetative varies to limit expansion to undesirable locations; (3) Seeding to restore degraded rangelands or pasturelands and bare ground and increase forage quantity and quality; (4) Prescribed burning to increase forage quantity and quality; or (5) Noxious weed control to facilitate restoration of rangelands or pasturelands, increase visual surveillance, and increase forage quantity and quality. The habitat improvements will be maintained throughout the term of the cooperative agreement. The cooperator will receive a certificate of inclusion that authorizes implementation of the conservation actions and other provisions of the cooperative agreement and authorizes incidental take and limited control of the covered species above the cooperator's baseline responsibilities, as defined in the cooperative agreement. The SHA and permit would become effective upon signature of the SHA, and issuance of the permit and would remain in effect for 50 years.

We have evaluated the impacts of this action under the National Environmental Policy Act (NEPA) and determined that it warrants categorical exclusion as described in 516 DM 8.5, and/or 516 DM 2, Appendix 1. This notice is provided pursuant to NEPA, section 10 of the Act, and our Safe Harbor Policy (64 FR 32717, June 17, 1999). We will evaluate whether the issuance of the permit complies with section 7 of the Act by conducting an intra-Service section 7 consultation. We will use the result of the biological opinion, in combination with our finding that will take into consideration any public comments, in the final analysis to determine whether or not to issue the requested permit, pursuant to the regulations that guide permit issuance.

Public Review of Documents

Persons wishing to review the SHA and the application may obtain a copy by writing our Utah Field Office (see ADDRESSES) or by visiting during normal business hours. The SHA also will be posted on the Internet at http://mountain-prairie.fws.gov/species/mammals/utprairiedog/.

Public Comments

Send any written data or comments concerning the SHA or application to the Utah Field Office (see ADDRESSES). Comments must be submitted in writing to be adequately considered in the Service's decisionmaking process. Please reference permit number TE-155376 in your comments, or in the request for the documents discussed herein.

Public Availability of Comments

Before including your address, phone number, e-mail address, or other personal identifying information in your comment, you should be aware that your entire comment—including your personal identifying information—may be made publicly available at any time. While you can ask us in your comment to withhold your personal identifying information from public review, we cannot guarantee that we will be able to do so.

Authority: The authority for this action is the Endangered Species Act of 1973, as amended (16 U.S.C. 1531 et seq.).

Dated: August 8, 2007.
James J. Slack,
Deputy Regional Director, Denver, Colorado.

[FR Doc. E7-17590 Filed 9-5-07; 8:45 am]

BILLING CODE 4310-55-P